DEPARTMENT OF COMMERCE

International Trade Administration

Antidumping or Countervailing Duty Order, Finding, or Suspended Investigation; Advance Notification of Sunset Review

AGENCY: Enforcement and Compliance, International Trade Administration, Department of Commerce.

Background

Every five years, pursuant to the Tariff Act of 1930, as amended (the Act), the U.S. Department of Commerce (Commerce) and the U.S. International Trade Commission automatically initiate and conduct reviews to determine whether revocation of a countervailing or antidumping duty order or termination of an investigation suspended under section 704 or 734 of the Act would be likely to lead to continuation or recurrence of dumping or a countervailable subsidy (as the case may be) and of material injury.

Upcoming Sunset Reviews for July 2025

Pursuant to section 751(c) of the Act, the following Sunset Reviews are scheduled for initiation in July 2025 and will appear in that month's Notice of Initiation of Five-Year Sunset Reviews (Sunset Review).

| Department contact
Antidumping Duty Proceedings
Carbon And Certain Alloy Steel Wire Rod from Brazil A-351-832 (4th Review) | Thomas Martin (202) 482-3936
Utility Scale Wind Towers from Canada A-122-867 (1st Review) | Thomas Martin (202) 482-3936
Barium Carbonate from China A-570-880 (4th Review) | Thomas Martin (202) 482-3936
Ferrovanadium from China A-570-873 (4th Review) | Mary Kolberg (202) 482-1785
Light-Walled Rectangular Pipe and Tube from China A-570-914 (3rd Review) | Thomas Martin (202) 482-3936
Tow-Behind Lawn Groomers and Parts Thereof from China A-570-939 (3rd Review) | Thomas Martin (202) 482-3936
Oil Country Tubular Goods from India A-533-857 (2nd Review) | Thomas Martin (202) 482-3936
Carbon And Certain Alloy Steel Wire Rod from Indonesia A-560-815 (4th Review) | Thomas Martin (202) 482-3936
Utility Scale Wind Towers from Indonesia A-560-833 (1st Review) | Thomas Martin (202) 482-3936
Light-Walled Rectangular Pipe and Tube from Korea A-580-859 (3rd Review) | Thomas Martin (202) 482-3936
Oil Country Tubular Goods from Korea A-580-870 (2nd Review) | Thomas Martin (202) 482-3936
Utility Scale Wind Towers from Korea A-580-902 (1st Review) | Thomas Martin (202) 482-3936
Carbon And Certain Alloy Steel Wire Rod from Mexico A-201-830 (4th Review) | Thomas Martin (202) 482-3936
Light-Walled Rectangular Pipe and Tube from Mexico A-201-836 (3rd Review) | Thomas Martin (202) 482-3936
Carbon And Certain Alloy Steel Wire Rod from Moldova A-841-805 (4th Review) | Thomas Martin (202) 482-3936
Ferrovanadium from South Africa A-791-815 (4th Review) | Mary Kolberg (202) 482-178
Carbon And Certain Alloy Steel Wire Rod from Trinidad and Tobago A-274-804 (4th Review) | Thomas Martin (202) 482-3936
Light-Walled Rectangular Pipe and Tube from Türkiye A-489-815 (3rd Review) | Thomas Martin (202) 482-3936
Oil Country Tubular Goods from Türkiye A-489-816 (2nd Review) | Thomas Martin (202) 482-3936
Oil Country Tubular Goods from Ukraine A-823-815 (2nd Review) | Thomas Martin (202) 482-3936
Oil Country Tubular Goods from Vietnam A-552-817 (2nd Review) | Thomas Martin (202) 482-3936
Utility Scale Wind Towers from Vietnam A-552-825 (1st Review) | Thomas Martin (202) 482-3936
Countervailing Duty Proceedings Department Contact
Carbon And Certain Alloy Steel Wire Rod from Brazil C-351-833 (4th Review) | Thomas Martin (202) 482-3936
Utility Scale Wind Towers from Canada C-122-868 (1st Review) | Thomas Martin (202) 482-3936
Light-Walled Rectangular Pipe and Tube from China C-570-915 (3rd Review) | Mary Kolberg (202) 482-1785
Oil Country Tubular Goods from India C-533-858 (2nd Review) | Thomas Martin (202) 482-3936
Oil Country Tubular Goods from Türkiye C-489-817 (2nd Review) | Mary Kolberg (202) 482-1785
Utility Scale Wind Towers from Vietnam C-552-826 (1st Review) | Thomas Martin (202) 482-3936

Suspended Investigations

No Sunset Review of suspended investigations is scheduled for initiation in July 2025.

Commerce's procedures for the conduct of Sunset Review are set forth in 19 CFR 351.218. The Notice of Initiation of Five-Year (Sunset Review) provides further information regarding what is required of all parties to participate in Sunset Review.

Pursuant to 19 CFR 351.103(c), Commerce will maintain and make available a service list for these proceedings. To facilitate the timely preparation of the service list(s), it is requested that those seeking recognition as interested parties to a proceeding contact Commerce in writing within 10 days of the publication of the Notice of Initiation.

Please note that if Commerce receives a Notice of Intent to Participate from a member of the domestic industry within 15 days of the date of initiation, the review will continue.

Thereafter, any interested party wishing to participate in the Sunset Review must provide substantive comments in response to the notice of initiation no later than 30 days after the date of initiation. Note that Commerce has amended certain of its requirements pertaining to the service of documents in 19 CFR 351.303(f).¹ An electronically filed document must be received successfully in its entirety by ACCESS by 5:00 p.m. Eastern Time on the day on which it is due.

¹ See Administrative Protective Order, Service, and Other Procedures in Antidumping and Countervailing Duty Proceedings; Final Rule, 88 FR 67069 (September 29, 2023).

In prior proceedings we have encouraged interested parties to provide an executive summary of their comments, including footnotes. In these sunset reviews, we request that interested parties provide at the beginning of their comments, an executive summary for each issue raised in their comments. Further, we request that interested parties limit their public executive summary of each issue to no more than 450 words, not including citations. We intend to use the public executive summaries as the basis of the comment summaries included in the decision memorandum that will accompany the notice to be published in the Federal Register. Finally, we request that interested parties include footnotes for relevant citations in the public executive summary of each issue.

This notice is not required by statute but is published as a service to the international trading community.

Dated: May 16, 2025.
Scot Fullerton,
Acting Deputy Assistant Secretary for Antidumping and Countervailing Duty Operations.

[FR Doc. 2025-09940 Filed 5-30-25; 8:45 am]

BILLING CODE 3510-DS-P